DEPARTMENT OF ENERGY

Federal Energy Regulatory Commission

[Docket No. CP07-28-000]

Southern Natural Gas Company; Notice of Application

December 11, 2006.

Take notice that on December 1, 2006, Southern Natural Gas Company (Southern), 1900 Fifth Avenue North, Birmingham, Alabama 35203, filed in Docket No. CP07-28-000, an application pursuant to sections 7(b) and (c) of the Natural Gas Act (NGA) and Part 157 of the Commission's Regulations, for authorization to abandon and modify certain pipeline and appurtenant facilities on its 22-inch North Main Loop Line and for a certificate of public convenience and necessity authorizing the construction, installation, and operation of certain pipeline facilities on its 24-inch 2nd Northern Main Loop Line located in Tuscaloosa County, Alabama, all as more fully set forth in the application which is on file with the Commission and open to public inspection. This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

In its application, Southern states that it is currently involved in an extensive pipeline integrity program (PIP). As part of the PIP, Southern has identified for replacement, certain sections of pipe which were constructed using a mechanical coupling methodology. One of these areas is the North Main Loop Line from 271.65 to Milepost 281.27 (9.62 miles) located in Tuscaloosa County, Alabama. Southern proposes to abandon in place a portion of the North Main Loop Segment from Milepost 278.48 to Milepost 281.27 (2.79 miles). Also, Southern proposes to abandon and remove a portion of the North Main Loop Segment from Milepost 271.65 to Milepost 278.48 (6.83 miles). Southern proposes to install a new 22-inch mainline gate assembly at Milepost 278.48 and install a new 12-inch blind flange to close the 12-inch crossover value at Milepost 281.02. Southern proposes to install a new 20-inch crossover connection at the Black Warrior River West Header at Milepost 281.23 between the 22-inch North Main Line and the 22-inch North Main Loop Line. The crossover connection will be accomplished by installing a new 20-inch tap on the 22-inch Northern Main Line and a short segment of new 20-inch crossover pipe for connection to the 22-inch North Main Loop Line.

Also, Southern requests authority to extend its 24-inch 2nd North Main Loop Line, by constructing, installing and operating 6.83 miles of 24-inch pipeline from Milepost 148.93 to Milepost 155.75 in Tuscaloosa County, Alabama. This new segment of 24-inch pipeline will be installed in the current location of the 22-inch pipeline proposed to be abandoned. Southern stated that the installation of this segment of the 24-inch 2nd North Main Loop Line provide the sufficient capacity and the level of service necessary to continue to serve its existing customers in this area. The cost of constructing the 2nd North Main Loop Segment is estimated to be $10.4 million.

Any questions regarding this application should be directed to Patrick B. Pope, Vice President and General Counsel or Patricia S. Francis, Senior Counsel for Southern, Post Office Box 2563, Birmingham, Alabama 35202-2563, at (205) 325-7126 or (205) 325-7696, respectively.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See 18 CFR 385.2001(a)(1)(iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

Comment Date: 5 p.m. eastern standard time, January 2, 2007.

Magalie R. Salas,
Secretary.

[FR Doc. E6-21413 Filed 12-14-06; 8:45 am]

BILLING CODE 6717-01-P